ENVIRONMENTAL PROTECTION AGENCY

[EPA-HQ-OPP-2016-0427; FRL-9950-47]

Public Meeting; Data That Support the Registration of Plant-Incorporated Protectants (PIPs)

AGENCY: Environmental Protection Agency (EPA).

ACTION: Notice.

SUMMARY: The Environmental Protection Agency (EPA) will hold a one-day public symposium on the types of data that support the registration of plant-incorporated protectants (PIPs). The symposium is open to the public and can be attended in person and online.

DATES: The meeting will be held on September 29, 2016, from approximately 9:00 a.m. to 5:00 p.m. Sign-in begins at 8:30 a.m.

If you wish to participate in person, we encourage registration on or before September 26, 2016.

If you wish to attend in person and would like to request accommodation for a disability, please follow the registration link under III. How Can I Request to Participate in this Meeting? and follow the prompts for in-person attendance. In order to give EPA as much time as possible to process your request, we encourage participants to request accommodations at least 10 days prior to the meeting.

ADDRESSES: The meeting will be held at the Environmental Protection Agency, Conference Center Room S1204/06, Lobby Level, One Potomac Yard (South Bldg.), 2777 S. Crystal Dr., Arlington, VA 22202.

FOR FURTHER INFORMATION CONTACT: Wiebke Tapken, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

This action is directed to the public in general. This action may, however, be of interest to persons who are or may be required to conduct testing of pesticidal substances under the Federal Food, Drug, and Cosmetic Act (FFDCA) and/or the Federal Insecticide, Fungicide, and Rodenticide Act (FIFRA). Since other entities may also be interested, the Agency has not attempted to describe all the specific entities that may be affected by this action.

B. How can I get copies of this document and other related information?

The docket for this action, identified by docket identification (ID) number EPA-HQ-OPP-2016-0427, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

The purpose of the symposium is to provide a forum for biotechnology developers, the agricultural sector, researchers, and the public, to receive first-hand information on the scope of the scientific pesticide application review process that determines the safety of PIPs, including the type of data EPA typically needs to make a regulatory decision. We anticipate that this symposium and the information being presented will promote transparency, clarity, and consistency for EPA's regulation of PIPs. The symposium will provide opportunities for the audience to ask questions on each of the topics covered. EPA is not requesting public comment or advice on the materials being presented during the symposium. Following the meeting, the materials that will be presented will be made available in docket ID No. EPA-HQ-OPP-2016-0427.

III. How can I request to participate in this meeting?

No fees are associated with the attendance of the symposium. You may request to participate online and in-person by referring to this link and following the prompts: https://www.epa.gov/regulation-biotechnology-under-tsca-and-fifra/plant-incorporated-protectants-data-requirements.

Authority: 7 U.S.C. 136.

Dated: August 16, 2016.
Mark A. Hartman,
Acting Director, Biopesticides and Pollution Prevention Division, Office of Pesticide Programs.

[FR Doc. 2016-20305 Filed 8-23-16; 8:45 am]

BILLING CODE 6560-50-P